NATIONAL FOUNDATION ON THE ARTS AND THE HUMANITIES

Meetings of Humanities Panel

AGENCY: The National Endowment for the Humanities.

ACTION: Notice of Meetings.

SUMMARY: Pursuant to the provisions of the Federal Advisory Committee Act (Pub. L. 92-463, as amended), notice is hereby given that the following meetings of the Humanities Panel will be held at the Old Post Office, 1100 Pennsylvania Avenue, NW., Washington, DC 20506.

FOR FURTHER INFORMATION CONTACT: Michael McDonald, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of Title 5, United States Code.

1. Date: November 1, 2005.

Time: 9 a.m. to 5 p.m.

Room: 415.

Program: This meeting will review applications for Linguistics, submitted to the Division of Preservation and Access at the July 15, 2005 deadline.

2. Date: November 2, 2005.

Time: 8:30 a.m. to 5:30 p.m.

Room: 426.

Program: This meeting will review applications for Humanities Projects in Libraries, submitted to the Division of Public Programs at the September 16, 2005 deadline.

3. Date: November 4, 2005.

Time: 8:30 a.m. to 5:30 p.m.

Room: 315.

Program: This meeting will review applications for Humanities Projects in Museums and Historical Organizations, submitted to the Division of Public Programs at the September 16, 2005 deadline.

4. Date: November 4, 2005.

Time: 9 a.m. to 5 p.m.

Room: 415.

Program: This meeting will review applications for Science, Technology, Medicine and Philosophy, submitted to the Division of Preservation and Access at the July 15, 2005 deadline.

5. Date: November 7, 2005.

Time: 8:30 a.m. to 5:30 p.m.

Room: 426.

Program: This meeting will review applications for Special Projects, submitted to the Division of Public Programs at the September 16, 2005 deadline.

6. Date: November 8, 2005.

Time: 9 a.m. to 5 p.m.

Room: 415.

Program: This meeting will review applications for World Studies II, submitted to the Division of Preservation and Access at the July 15, 2005 deadline.

7. Date: November 9, 2005.

Time: 9 a.m. to 5:30 p.m.

Room: 421.

Program: This meeting will review applications for Landmarks of American History and Culture, submitted to the Division of Education Programs at the November 7, 2005 deadline.

10. Date: November 10, 2005.

Time: 9 a.m. to 5 p.m.

Room: 415.

Program: This meeting will review applications for Anthropology and Archaeology, submitted to the Division of Preservation and Access at the July 15, 2005 deadline.

11. Date: November 14, 2005.

Time: 8:30 a.m. to 5:30 p.m.

Room: 315.

Program: This meeting will review applications for Humanities Projects in Museums and Historical Organizations, submitted to the Division of Public Programs at the September 16, 2005 deadline.

12. Date: November 15, 2005.

Time: 8:30 a.m. to 5:30 p.m.

Room: 426.

Program: This meeting will review applications for Humanities Projects in Museums and Historical Organizations, submitted to the Division of Public Programs at the September 16, 2005 deadline.

13. Date: November 29, 2005.

Time: 9 a.m. to 5 p.m.

Room: 415.

Program: This meeting will review applications for U.S. History VI, submitted to the Division of Preservation and Access at the July 15, 2005 deadline.

Michael McDonald,
Advisory Committee, Management Officer.

[FR Doc. 05-21037 Filed 10-20-05; 8:45 am]

BILLING CODE 7536-01-P